DEPARTMENT OF COMMERCE

National Oceanic and Atmospheric Administration

[RTID 0648-XD431]

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of the Scientific and Statistical Committee (SSC). See SUPPLEMENTARY INFORMATION.

DATES: The meeting will be held from 8:30 a.m. until 5 p.m., EDT on October 24, 2023; from 8:30 a.m. until 5 p.m. on October 25; and from 8:30 a.m. until 12 p.m. on October 26, 2023.

ADDRESSES:

Meeting address: The meetings will be held at the Town and Country Inn, 2008 Savannah Highway, Charleston, SC 29407; telephone: (843) 571-1000.

The meetings will also be available via webinar. Registration is required. Webinar registration, an online public comment form, and briefing book materials will be available two weeks prior to the meetings at: https://safmc.net/scientific-and-statistical-committee-meeting/.

Council address: South Atlantic Fishery Management Council, 4055 Faber Place Drive, Suite 201, N Charleston, SC 29405.

FOR FURTHER INFORMATION CONTACT: Kim Iverson, Public Information Officer, 4055 Faber Place Drive, Suite 201, North Charleston, SC 29405; telephone: (843) 571-4366 or toll free: (866) SAFMC-10; fax: (843) 769-4520; email: kim.iverson@safmc.net.

SUPPLEMENTARY INFORMATION: The SSC meeting agenda includes the review of the SEDAR (Southeast Data, Assessment, and Review) 76 Black Sea Bass Operational Assessment, Vermilion Snapper Interim Analysis, and terms of reference and schedule for SEDAR 94 Florida Hogfish. The SSC will review results from the Marine Recreational Information Program Fishing Effort Survey pilot study, changes to cumulative estimates, and available data for unassessed stocks. They will receive presentations from NOAA Fisheries on the National Standard 2: Best Scientific Information Available (BSIA) regional framework and modelling discards and ABC determination. The SSC will also receive updates on the Snapper Grouper Management Strategy Evaluation and the South Atlantic Deepwater Longline Survey. The SSC will discuss potential national SSC meeting topics, changes to the Yellowtail Snapper Overfishing Limit and Acceptable Biological Catch, Climate Change Scenario Planning and funding opportunities, and other business as needed.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: September 27, 2023.
Rey Israel Marquez,
Acting Deputy Director, Office of Sustainable Fisheries, National Marine Fisheries Service.

[FR Doc. 2023-21728 Filed 9-29-23; 8:45 am]

BILLING CODE 3510-22-P